DEPARTMENT OF TRANSPORTATION

Coast Guard

33 CFR Part 165

[CGD07-01-037]

RIN 2115-AE84

Regulated Navigation Area: Savannah River, Georgia

AGENCY: Coast Guard, DOT.

ACTION: Notice of proposed rulemaking.

SUMMARY: The Coast Guard proposes to create a Regulated Navigation Area (RNA) on a portion of the Savannah River to regulate vessel movements when vessels carrying Liquefied Natural Gas (LNG) are transiting or moored on the Savannah River. This action is necessary because of the size, draft, and volatile cargo of LNG vessels. This proposed rule would enhance public and maritime safety by minimizing the risk of collision, allision or grounding and the possible release of LNG.

DATES: Comments and related material must reach the Coast Guard on or before August 20, 2001.

ADDRESSES: You may mail comments and related material to Marine Safety Office Savannah, Juliette Gordon Low Federal Building, Suite 1017, 100 W. Oglethorpe, Savannah, Georgia, 31401. Marine Safety Office Savannah maintains the public docket for this rulemaking. Comments and material received from the public, as well as documents indicated in this preamble as being available in the docket [CGD07-01-037], will become part of this docket and will be available for inspection or copying at Marine Safety Office Savannah between 7:30 a.m. and 4:30 p.m., Monday through Friday, except Federal holidays.

FOR FURTHER INFORMATION CONTACT: Lieutenant Commander James Hanzalik at the Marine Safety Office Savannah; phone (912) 652-4353 extension 205.

SUPPLEMENTARY INFORMATION:

Request for Comments

We encourage you to participate in this rulemaking by submitting comments and related material. If you do so, please include your name and address, identify the docket number for this rulemaking (CGD07-01-037), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Marine Safety Office Savannah at the address under ADDRESSES explaining why one would be beneficial. If we determine that one would aid this rulemaking, we will hold one at a time and place announced by a later notice in the Federal Register.

Background and Purpose

The port of Savannah will begin receiving LNG vessels at the Southern LNG Elba Island facility in mid-September 2001. This proposed rule is needed to protect the safety of life and property on the navigable waters from hazards associated with LNG carriers. The regulated navigation area is necessary because of the risk presented by the position of the LNG facility on the Savannah River and the unique characteristics of the LNG vessels and their cargo.

The Savannah River has a narrow and restricted channel with many bends. The LNG facility is located at one of these bends on Elba Island. The tankship berth is located adjacent to and parallel with the toe of the shipping channel. Because of these factors, the hazardous nature of LNG and the substantial volume of deep draft vessel traffic in Savannah (approximately 5000 annual transits), the risk of collision and allision involving a LNG tankship must be addressed.

The Elba Island LNG facility has been struck by passing vessels twice in the past 20 years. In both instances the facility was inactive, however damage to both the facility and vessels was extensive. The potential consequences from this type of allision would be more severe with a loaded LNG vessel at the Elba Island dock. This proposed rule is needed to prevent incidents involving a LNG vessel in transit or while moored at the facility.

Discussion of Proposed Rule

The proposed Regulated Navigation Area (RNA) will be located in the shipping channel between Fort Jackson (32°04.93′N, 081°02.19′W) and the Savannah River Channel Entrance Sea Buoy. During the scheduled inbound or outbound transit of LNG vessels, other vessels over 1600 gross tons will not be allowed to enter the RNA without the permission of the Captain of the Port. Vessels under 1600 gross tons will be allowed to enter the RNA but will be required to stay clear of transiting LNG vessels.

While a LNG vessel is moored at Elba Island, vessels over 1600 gross tons will be allowed to transit the River but will be required to have tug escorts when transiting in the vicinity of the LNG dock. Although the LNG facility is required to provide these tug escorts, the transiting vessel may choose to provide its own escorts. The relatively narrow channel and strong tidal currents of the Savannah River make these precautions necessary to prevent the risk of allision, collision or grounding and the possible release of LNG.

Regulatory Evaluation

This proposed rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal so that a full Regulatory Evaluation under paragraph 10e of the regulatory policies and procedures of DOT is unnecessary. Only an estimated one percent of the annual transits on the Savannah River will be LNG vessels. Further, all LNG transits will be coordinated and scheduled with the pilots and the Coast Guard Captain of the Port to minimize port disruption and delays for other commercial traffic, as well as LNG vessels. Finally, requests to enter the RNA may be granted on a case-by-case basis by the Coast Guard Captain of the Port.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to operate in portions of the Savannah River, between Fort Jackson and the Entrance Sea Buoy, while a LNG vessel is transiting or moored in the Savannah River. This RNA would not have a significant economic impact on a substantial number of small entities for the following reasons. First, LNG vessels will comprise an estimated one percent of the large commercial vessel transits on the river. Further, the tug escort requirements of this proposed rule for vessels transiting past a moored LNG vessel will only affect an estimated 12% of all large commercial vessel transits on the river. Delays, if any, will be minimal because vessel speeds would be reduced regardless of the tug requirements. Delays for inbound and outbound traffic due to LNG transits will be minimized through pre-transit conferences with the pilots and Coast Guard Captain of the Port. Finally, the RNA requirements are less burdensome for smaller vessels, which are more likely to be small entities, because of the lower risk associated with these vessels.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pubic Law 104-221), we want to assist small entities in understanding this proposed rule so that they could better evaluate its effects on them and participate in the rulemaking. If the rule would affect your small business and you have questions concerning its provisions or options for compliance, please contact the person listed under FOR FURTHER INFORMATION CONTACT.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in the preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Environment

We considered the environmental impact of this proposed rule and concluded that, under figure 2-1, paragraph (34)(g), of Commandant Instruction M16475.lC, this rule is categorically excluded from further environmental documentation. A “Categorical Exclusion Determination” is available in the docket where indicated under ADDRESSES.

List of Subjects in 33 CFR Part 165

Harbors, Marine safety, Navigation (water), Reporting and recordkeeping requirements, Safety measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46

2. Section 165.756 is added to read as follows:

§ 165.756 Regulated Navigation Area; Savannah River, Georgia.

(a) Regulated Navigation Area (RNA). The deep draft channel of the Savannah River between Fort Jackson (32°04.93′N, 081°02.19′W) and the Savannah River Channel Entrance Sea Buoy is a regulated navigation area.

(b) Definitions. The following definitions are used in this section:

Bollard pull is an industry standard used for rating tug capabilities and is the pulling force imparted by the tug to the towline. It means the power that an escort tug can apply to its working line(s) or directly to a vessel's hull when operating in a normal configuration.

LNG vessel means a vessel as described in Title 46, Code of Federal Regulations, Part 154.

Made up means physically attached by cable, tow line, or other secure means in a way to control the maneuverability of a vessel being escorted.

Operator means the person who owns, operates, or is responsible for the operation of the facility.

Savannah River Channel Entrance Sea Buoy means the aid to navigation labeled, R W “T” Mo (A) WHIS, on the National Oceanic and Atmospheric Administration's (NOAA) Nautical Chart 11512.

Standby means ready, physically available and equipped to conduct operations.

Underway means that a vessel is not at anchor, made fast to the shore, or aground.

(c) Applicability. This section applies to all vessels operating within the Regulated Navigation Area, including naval and public vessels, except vessels that are engaged in the following operations:

(1) Law enforcement.

(2) Servicing aids to navigation.

(3) Surveying, maintenance, or improvement of waters in the RNA.

(4) Actively engaged in escort, maneuvering or support duties for the LNG vessel.

(d) Regulations—(1) Restrictions on Vessel Operations during Liquefied Natural Gas (LNG) vessel underway movements on the Savannah River. (i) Except for a vessel that is moored at a marina, wharf, or pier, and that remains moored, no vessel greater than 1600 gross tons is permitted within the Regulated Navigation Area without the consent of the Captain of the Port (COTP).

(ii) All vessels under 1600 gross tons shall keep clear of transiting LNG vessels.

(2) Requirements for vessels carrying Liquefied Natural Gas as cargo. The owner, master, or operator of a vessel carrying LNG shall:

(i) Comply with the notice requirements of 33 CFR Part 160. LNG vessels are encouraged to notify the COTP at least 72 hours before the vessel enters the RNA to facilitate scheduling and minimize delays. Updates are encouraged at least 12 hours before arriving at the RNA boundaries. The COTP may delay entry into the RNA to accommodate other commercial traffic. LNG vessels are further encouraged to include in their notice a report of the vessel's propulsion and machinery status, and for foreign flag vessels, any outstanding deficiencies identified by the vessel's flag state or classification society.

(ii) Obtain permission from the COTP before commencing the transit if actual time of entry of the LNG vessel into the RNA varies more than 30 minutes.

(iii) While transiting, make security broadcasts as recommended by the U.S. Coast Pilot 5 Atlantic Coast. The person directing the vessel must also notify the COTP by landline or radio on channel 13 or 16 when the vessel is at the following locations: Sea Buoy, Savannah Jetties, Fields Cut and after the vessel is moored.

(iv) Not enter or get underway within the regulated navigation area if visibility during the transit is, or is expected to be, less than three (3) miles, and wind speed is, or is expected to be, greater than 25 knots.

(v) While transiting the RNA, the LNG vessel shall have sufficient tug escorts.

(3) Restrictions on vessel operations while a LNG vessel is moored:

(i) The operator of a facility where a LNG vessel is moored shall station and provide a minimum of two (2) towing vessels each with a minimum of 100,000 pounds of bollard pull to safely maneuver transiting vessels greater than 1600 gross tons past the moored LNG vessel.

(ii) Transiting vessels over 1600 gross tons when passing a moored LNG vessel shall have a minimum of two (2) towing vessels in escort each with a minimum of 100,000 pounds of bollard pull made up in a way to safely maneuver past the transferring LNG vessel. Outbound vessels shall be escorted from the terminus of the Fort Jackson range until the vessel is safely past the LNG dock. Inbound vessels shall be escorted from Field's Cut until the vessel is safely past the LNG dock.

(iii) In addition to the towing vessels required by paragraph (d)(3)(i), the operator of the facility where the LNG vessel is moored shall provide at least one towing vessel with sufficient capacity to safely hold the LNG vessel to the dock while transiting vessels pass.

(e) LNG Schedule. The Captain of the Port will issue a Broadcast Notice to Mariners to inform the marine community of scheduled LNG vessel movements during which the restrictions imposed by this part are in effect.

(f) Waivers. (1) The Captain of the Port may, upon request, waive any requirement in this section, if the Captain of the Port finds that the vessel requesting the waiver can be operated safely or in the interest of national security.

(2) An application for a waiver must state the need for the waiver and describe the proposed vessel operations.

(g) Enforcement. Violations of this regulated navigation area should be reported to the Captain of the Port, Savannah, at (912) 652-4353. In accordance with the general regulations in § 165.13 of this part, no person may cause or authorize the operation of a vessel in the regulated navigation area contrary to the regulations.

Dated: May 29, 2001.
T.W. Allen,
Rear Admiral, U.S. Coast Guard, Commander, Seventh Coast Guard District.

[FR Doc. 01-15395 Filed 6-18-01; 8:45 am]

BILLING CODE 4910-15-P